FEDERAL MARITIME COMMISSION

[DOCKET NO. 24-21]

PKDC, LLC, Complainant v. CMA CGM S.A., Respondent; Notice of Filing of Complaint and Assignment

Served: May 15, 2024.

Notice is given that a complaint has been filed with the Federal Maritime Commission (the “Commission”) by PKDC, LLC (the “Complainant”) against CMA CGM S.A. (the “Respondent”). Complainant states that the Commission has subject matter jurisdiction over the complaint pursuant to the Shipping Act of 1984, as amended, 46 U.S.C. 40101 et seq. and personal jurisdiction over the Respondent as an ocean common carrier, as defined by 46 U.S.C. 40102(7) and (18), that has entered into a service contract, as defined by 46 U.S.C. 40102(21).

Complainant is a limited liability company existing under the laws of the State of Colorado with its principal place of business in Denver, Colorado.

Complainant identifies Respondent as a corporation organized under the laws of France with a corporate headquarters in Marseille, France who does business in the United States through CMA CGM (America) LLC, with its principal place of business in Norfolk, Virginia.

Complainant alleges that Respondent violated 46 U.S.C. 41102(c), 41104(a)(2), 41104(a)(9), and 41104(a)(10), and 46 CFR 545.5. Complainant alleges these violations arose from a practice of systematically refusing to meet service commitments, a requirement that extracontractual surcharges be paid prior to performance of service commitments, and an assessment of unreasonable demurrage and detention charges.

An answer to the complaint must be filed with the Commission within 25 days after the date of service.

The full text of the complaint can be found in the Commission's electronic Reading Room at https://www2.fmc.gov/readingroom/proceeding/24-21/. This proceeding has been assigned to the Office of Administrative Law Judges. The initial decision of the presiding judge shall be issued by May 15, 2025, and the final decision of the Commission shall be issued by December 1, 2025.

David Eng,
Secretary.

[FR Doc. 2024-10983 Filed 5-17-24; 8:45 am]

BILLING CODE 6730-02-P